DEPARTMENT OF HOMELAND SECURITY

U.S. Citizenship and Immigration Services

[CIS No. 2514-11; DHS Docket No. USCIS-2011-0014]

RIN 1615-ZB09

Filing Procedures for Employment Authorization and Automatic Extension of Existing Employment Authorization Documents for Liberians Provided Deferred Enforced Departure

AGENCY: U.S. Citizenship and Immigration Services, Department of Homeland Security.

ACTION: Notice.

SUMMARY: On August 16, 2011, President Obama issued a memorandum to the Secretary of Homeland Security Janet Napolitano directing her to extend for an additional 18 months the deferred enforced departure (DED) of certain Liberians and to provide for work authorization during that period. The DED extension runs from September 30, 2011, through March 31, 2013. This notice provides instructions for eligible Liberians on how to apply for the full 18-month extension of employment authorization. Finally, this notice provides instructions for DED-eligible Liberians on how to apply for permission to travel outside the United States during the 18-month DED period.

USCIS will issue new employment authorization documents (EADs) with a March 31, 2013 expiration date to Liberians whose DED has been extended under the presidential memorandum and who apply for EADs under this extension. Given the timeframes involved with processing EAD applications, DHS recognizes that all DED-eligible Liberians may not receive new EADs until after their current EADs expire on September 30, 2011. Accordingly, this Notice automatically extends the validity of DED-related EADs that have an expiration date of September 30, 2011, for 6 months, through March 31, 2012, and explains how Liberians covered under DED and their employers may determine which EADs are automatically extended and their impact on Form I-9 and E-Verify processes.

DATES: This notice is effective October 1, 2011. The 6-month automatic extension of employment authorization for Liberians who are eligible for DED, including the extension of their EADs as specified in this notice, is effective on October 1, 2011. This automatic extension will expire on March 31, 2012. The 18-month extension of DED is valid through March 31, 2013.

FOR FURTHER INFORMATION CONTACT:

• For further information on DED, including guidance on the application process for EADs and additional information on eligibility, please visit the DED Web page at http://www.uscis.gov/tps and choose “Deferred Enforced Departure” from the menu on the left. You can find specific information about DED for Liberia by selecting “DED Granted Country: Liberia” from the menu on the left of the TPS or DED Web page. From the Liberian page, you can select the Liberian DED Questions & Answers from the menu on the right for further information.

• You can also contact the DED Operations Program Manager at the Status and Family Branch, Service Center Operations Directorate, U.S. Citizenship and Immigration Services, Department of Homeland Security, 20 Massachusetts Avenue, NW., Washington, DC 20529-2060; or by phone at (202) 272-1533 (this is not a toll-free number). Note: The phone number provided here is solely for questions regarding this DED notice. It is not for individual case status inquiries.

• Applicants seeking information about the status of their individual cases can check Case Status Online available at the USCIS Web site at http://www.uscis.gov, or call the USCIS National Customer Service Center at 1-800-375-5283 (TTY 1-800-767-1833).

• Further information will also be available at local USCIS offices upon publication of this Notice.

SUPPLEMENTARY INFORMATION:

Presidential Memorandum Extending DED for Certain Liberians

In accordance with his constitutional authority to conduct the foreign relations of the United States, President Obama has directed that Liberians (and eligible persons without nationality who last resided in Liberia) who are physically present in the United States and who held TPS on September 30, 2007, and are under a grant of DED through September 30, 2011, be provided DED for an additional 18-month period after their current DED status ends. See Memorandum from President Obama to the Secretary of Homeland Security dated August 16, 2011 (“Presidential Memorandum”). The President also directed the Secretary of Homeland Security (Secretary) to implement the necessary steps to authorize employment authorization for eligible Liberians for 18 months from October 1, 2011, through March 31, 2013.

Employment Authorization and Filing Requirements

How will I know if I am eligible for employment authorization under the Presidential Memorandum that extended DED for certain Liberians for 18 months?

The DED extension and the procedures for employment authorization in this notice apply to Liberian nationals (and persons without nationality who last habitually resided in Liberia) who:

• Are physically present in the United States;

• Have continuously resided in the United States since October 1, 2002;

• Held TPS on September 30, 2007; and

• Are under a grant of DED through September 30, 2011.

The above eligibility criteria are laid out in the Presidential Memorandum. This DED extension does not include any individual:

• Who would be ineligible for TPS for the reasons provided in section 244(c)(2)(B) of the Immigration and Nationality Act (the Act), 8 U.S.C. 1254a(c)(2)(B);

• Whose removal the Secretary determines is in the interest of the United States;

• Whose presence or activities in the United States the Secretary of State has reasonable grounds to believe would have potentially serious adverse foreign policy consequences for the United States;

• Who has voluntarily returned to Liberia or his or her country of last habitual residence outside the United States;

• Who was deported, excluded, or removed prior to August 16, 2011; or

• Who is subject to extradition.

What will I need to file if I am covered by DED and would like to have evidence of employment authorization?

If you are covered under DED for Liberia, and would like evidence of your employment authorization during the 18-month extension of DED, you must apply for an Employment Authorization Document (EAD) on Form I-765, Application for Employment Authorization. If you wish to have work authorization valid through March 31, 2013, you can file Form I-765 starting August 25, 2011. If you have a DED-related EAD that is valid through September 30, 2011, you must file Form I-765 as soon as possible to avoid gaps in work authorization. Please carefully follow the Form I-765 instructions when completing the application for an EAD. When filing the Form I-765, you must:

• Indicate that you are eligible for DED by putting “(a)(11)” in response to Question 16 on Form I-765;

• Include a copy of your last Form I-797, Notice of Action, showing that you were approved for TPS as of September 30, 2007, if such copy is available. Please note that evidence of TPS as of September 30, 2007, is necessary to show that you were covered under the previous DED for Liberia through September 30, 2011.; and

• Submit the Form I-765 application fee.

The Form I-765 application fee is required for individuals covered under DED who request an EAD based on the fee rule change of September 24, 2010. See 75 FR 58962; see also 8 CFR 103.7(b)(HH) (states that there is a fee for Form I-765 and what that fee is), 274a.13(a) (states that an alien authorized to be employed under section 274a.12(a)(11) must file a Form I-765), and 274a.12(a)(12) (which is the employment authorization classification for those covered under Temporary Protected Status and, by extension, deferred enforced departure). If you are unable to pay, you may apply for an application fee waiver by completing a Request for Fee Waiver (Form I-912) or submitting a personal letter requesting a fee waiver, and providing satisfactory supporting documentation

How will I know if I will need to obtain biometrics?

If biometrics are required to produce the secure EAD, you will be notified by USCIS and scheduled for an appointment at a USCIS Application Support Center.

Where do I submit my completed Form I-765?

Please submit your completed Form I-765 and supporting documentation to: USCIS, Attn: DED Liberia, P.O. Box 8677, Chicago, IL 60680-8677.

Can I file my Form I-765 electronically?

No. Electronic filing is not available for filing Form I-765 based on DED.

Extension of Employment Authorization and EADs

May I request an interim EAD at my local office?

No. Local USCIS offices will not issue interim EADs to individuals eligible for DED under the Presidential Memorandum.

Am I eligible to receive an automatic 6-month extension of my current EAD from September 30 through March 31, 2012?

You are eligible for an automatic 6-month extension of your EAD if you are a national of Liberia (or person having no nationality who last habitually resided in Liberia), and you are currently covered by DED through September 30, 2011.

This automatic extension covers EADs issued on Form I-766, Employment Authorization Document, bearing an expiration date of September 30, 2011. These EADs must also bear the notation “A-11” on the face of the card under “Category.”

When hired, what documentation may I show to my employer as proof of employment authorization and identity when completing employment eligibility verification, Form I-9?

You can find a list of acceptable document choices on page 5 of the Employment Eligibility Verification, Form I-9. Employers are required to verify the identity and employment authorization of all new employees by using Form I-9. Within three days of hire, an employee must present proof of identity and employment authorization to his or her employer.

You may present any document from List A (reflecting both your identity and employment authorization), or one document from List B (reflecting identity) together with one document from List C (reflecting employment authorization). An EAD is an acceptable document under List A.

If you received a 6-month automatic extension of your EAD by virtue of this Federal Register notice, you may choose to present your automatically extended EAD, as described above, to your employer as proof of identity and employment authorization for Form I-9 through March 31, 2012 (see the subsection below titled “How do my employer and I complete Form I-9 (i.e., verification) using an automatically extended EAD for a new job?” for further information). To minimize confusion over this extension at the time of hire, you may also show a copy of this Federal Register notice regarding the automatic extension of employment authorization through March 31, 2012, to your employer. As an alternative to presenting your automatically extended EAD, you may choose to present any other acceptable document from List A, or List B plus List C.

What documentation may I show my employer if I am already employed but my current DED-related EAD is set to expire?

You must present any document from List A or any document from List C on Form I-9 to reverify employment authorization. Employers are required to reverify on Form I-9 the employment authorization of current employees upon the expiration of a DED-related EAD.

If you received a 6-month automatic extension of your EAD by virtue of this Federal Register notice, your employer does not need to reverify until after March 31, 2012. However, you and your employer do need to make corrections to the employment authorization expiration dates in Section 1 and Section 2 of the Form I-9 (see the subsection below titled “What corrections should my employer at my current job and I make to Form I-9 if my EAD has been automatically extended?” for further information). In addition, you may also show this Federal Register notice to your employer to avoid confusion about whether or not your expired TPS-related document is acceptable. After March 31, 2012, when the automatic extension expires, your employer must reverify your employment authorization. You may show any document from List A or List C on Form I-9 to satisfy this reverification requirement.

What happens after March 31, 2012, for purposes of employment authorization?

After March 31, 2012, employers may not accept the EADs that were automatically extended by this Federal Register notice. However, USCIS will issue new EADs to individuals covered under DED. These EADs will have an expiration date of March 31, 2013, and can be presented to your employer as proof of employment authorization and identity. The EAD will bear the notation “A-11” on the face of the card under “Category.” Alternatively, you may choose to present any other legally acceptable document or combination of documents listed on the Form I-9 to prove identity and employment authorization.

How do my employer and I complete Form I-9 (i.e., verification) using an automatically extended EAD for a new job?

When using an automatically extended EAD to fill out Form I-9 for a new job prior to March 31, 2012, you and your employer should do the following:

(1) For Section 1, you should:

a. Check “An alien authorized to work;”

b. Write your alien number (A-number) in the first space (your EAD or other document from DHS will have your A-number printed on it); and

c. Write the automatic extension date in the second space.

(2) For Section 2, employers should:

a. Record the document title;

b. Record the document number; and

c. Record the automatically extended EAD expiration date.

After March 31, 2012, employers must reverify the employee's employment authorization in Section 3 of Form I-9.

What corrections should my employer at my current job and I make to Form I-9 if my EAD has been automatically extended?

If you are an existing employee who presented a DED-related EAD that was valid when you first started your job, but that EAD has now been automatically extended, you and your employer should correct your previously completed Form I-9 as follows:

(1) For Section 1, you should:

a. Draw a line through the expiration date in the second space;

b. Write March 31, 2012, above the previous date;

c. Write “DED Ext.” in the margin of Section 1; and

a. Initial and date the correction in the margin of Section 1.

(2) For Section 2, employers should:

a. Draw a line through the expiration date written in Section 2;

b. Write March 31, 2012, above the previous date;

c. Write “DED Ext.” in the margin of Section 2; and

d. Initial and date the correction in the margin of Section 2.

After March 31, 2012, when the automatic extension of EADs expires, employers must reverify the employee's employment authorization in Section 3.

If I am an employer enrolled in E-Verify, what do I do when I receive a “Work Authorization Documents Expiring” alert for an automatically extended EAD?

If you are an employer who participates in E-Verify, you will receive a “Work Authorization Documents Expiring” case alert when an individual covered under DED has an EAD that is about to expire. Usually, this message is an alert to complete Section 3 of Form I-9 to reverify an employee's employment authorization. For existing employees with DED-related EADs that have been automatically extended, employers should disregard the E-Verify case alert and follow the instructions above explaining how to correct Form I-9. After March 31, 2012, employment authorization needs to be reverified in Section 3. You should never use E-Verify for reverification.

Can my employer require that I produce any other documentation to prove my status, such as proof of my Liberian citizenship?

No. When completing the Form I-9, employers must accept any documentation that appears on the lists of acceptable documentation, and that reasonably appears to be genuine and that relates to you. Employers may not request documentation that does not appear on the Form I-9. Therefore, employers may not request proof of Liberian citizenship when completing Form I-9. If presented with EADs that have been automatically extended pursuant to this Federal Register notice or EADs that are unexpired on their face, employers must accept such EADs as valid List A documents so long as the EADs reasonably appear to be genuine and to relate to the employee. See below for important information about your rights if your employer rejects lawful documentation, requires additional documentation, or otherwise discriminates against you because of your citizenship or immigration status, or national origin.

Note to All Employers

Employers are reminded that the laws requiring employment eligibility verification and prohibiting unfair immigration-related employment practices remain in full force. This notice does not supersede or in any way limit applicable employment verification rules and policy guidance, including those rules setting forth reverification requirements. For questions, employers may call the USCIS Customer Assistance Office at 1-800-357-2099. The USCIS Customer Assistance Office accepts calls in English and Spanish only. Employers may also call the Department of Justice (DOJ) Office of Special Counsel for Immigration-Related Unfair Employment Practices (OSC) Employer Hotline at 1-800-255-8155.

Note to Employees

Employees or applicants may call the DOJ OSC Worker Information Hotline at 1-800-255-7688 for information regarding employment discrimination based upon citizenship or immigration status, and national origin, unfair documentary practices related to the Form I-9, and discriminatory practices related E-Verify. Employers must accept any document or combination of documents acceptable for Form I-9 completion if the documentation reasonably appears to be genuine and to relate to the employee. Employers may not require extra or additional documentation beyond what is required for Form I-9 completion. Further, employees who receive an initial mismatch via E-Verify must be given an opportunity to challenge the mismatch, and employers are prohibited from taking adverse action against such employees based on the initial mismatch unless and until E-Verify returns a final non-confirmation. The Hotline accepts calls in multiple languages. Additional information is available on the OSC Web site at http://www.justice.gov/crt/osc/.

Note Regarding Federal, State and Local Government Agencies (Such as Departments of Motor Vehicles)

State and local government agencies are permitted to create their own guidelines when granting certain benefits, such as a driver's license or an identification card. Each state may have different laws, requirements, and determinations about what documents you need to provide to prove eligibility for certain benefits. If you are applying for a state or local government benefit, you may need to provide the state or local government agency with documents that show you are covered under DED and show you are authorized to work based on DED. Examples of documents state or local government agencies may require are:

(1) Your expired EAD that has been automatically extended, or your EAD that has a valid expiration date;

(2) A copy of this Federal Register notice if your EAD is automatically extended under this notice;

(3) A copy of your past Form I-821 Approval Notice (Form I-797), if you receive one from USCIS; and

(4) If there is an automatic extension of work authorization, a copy of the fact sheet from the USCIS DED Web page that provides information on the automatic extension.

Check with the state or local agency regarding which document(s) the agency will accept.

Some benefit-granting agencies use the USCIS Systematic Alien Verification for Entitlements Program (SAVE) to verify the current immigration status of applicants for public benefits. If such an agency has denied your application based solely or in part on a SAVE response following completion of all required SAVE verification steps, the agency must offer you the opportunity to appeal the decision in accordance with the agency's procedures. If the agency has completed all SAVE verification and you do not believe the response is correct, you may make an Info Pass appointment for an in-person interview at a local USCIS office. Detailed information on how to make corrections, make an appointment, or submit a written request can be found by going to the SAVE Web site at http://www.uscis.gov/save, and then choosing “How to Correct Your Records” from the menu on the right.

Travel Authorization and Advance Parole

Individuals covered under DED who want to travel outside of the United States must apply for and receive advance parole by filing Form I-131, Application for Travel Document, with required fees before departing the United States. See 8 CFR 223.2(a). The determination whether to grant advance parole is within the discretion of the Department of Homeland Security and is not guaranteed in all cases. If you seek advance parole in order to go to Liberia or to your country of last habitual residence before the United States, you may risk being found ineligible to re-enter the United States under DED because the Presidential Memorandum excludes persons “who have voluntarily returned to Liberia or his or her country of last habitual residence outside of the United States.”

You may submit your completed Form I-131 with your Form I-765. If you choose to file a Form I-131 separately, please submit the application along with supporting documentation that you qualify for DED to: USCIS, Attn: DED Liberia, P.O. Box 8677, Chicago, IL 60680-8677.

If you have a pending or approved I-765, please submit the I-797 notice of receipt or approval along with your Form I-131 and supporting documentation.

Dated: August 22, 2011.
Lori Scialabba,
Deputy Director, U.S. Citzenship and Immigration Services.

[FR Doc. 2011-21842 Filed 8-24-11; 8:45 am]

BILLING CODE 9111-97-P